DEPARTMENT OF COMMERCE

National Oceanic and Atmospheric Administration

[RTID 0648-XD326]

Endangered and Threatened Species; Take of Anadromous Fish

AGENCY: National Marine Fisheries Service (NMFS), National Oceanic and Atmospheric Administration (NOAA), Commerce.

ACTION: Notice; Issuance of one Endangered Species Act incidental take permit; availability of the Final Environmental Assessment and Finding of No Significant Impact.

SUMMARY: Notice is hereby given that NMFS issued an Incidental Take Permit (ITP) to Port Blakely, pursuant to the Endangered Species Act (ESA) of 1973, as amended, for the incidental take of ESA-listed species on the John Franklin Eddy Forestlands located in the Clackamas River and Molalla River basins of Oregon. The ITP is issued for a duration of 50 years. The ITP application and Port Blakely Habitat Conservation Plan (HCP) were submitted to NMFS pursuant to the ESA. NMFS also prepared a Final Environmental Assessment (EA) and a Finding of No Significant Impact (FONSI) under the National Environmental Policy Act (NEPA) associated with NMFS' issuance of the ITP for the HCP.

DATES: The ITP (No. 26729) was issued to Port Blakely on September 8, 2023, and the necessary countersignatures by the applicants were received on September 8, 2023. The expiration date of the ITP is September 1, 2073. The issued ITP is subject to certain conditions set forth therein.

ADDRESSES: The permit, the Final EA and FONSI, and other related documents are available on the NMFS West Coast Region website at: https://www.fisheries.noaa.gov/action/port-blakely-habitat-conservation-plan-john-franklin-eddy-forestlands.

FOR FURTHER INFORMATION CONTACT: Annie Birnie, NMFS, via phone at 503-230-5407 or via email at annie.birnie@noaa.gov.

SUPPLEMENTARY INFORMATION:

Species Included in the HCP

ESA-Listed Species Covered by NMFS

• Chinook salmon (Oncorhynchus tshawytscha): threatened Lower Columbia River (LCR) evolutionarily significant unit (ESU); threatened Upper Willamette River (UWR) ESU;

• Coho salmon (Oncorhynchus kisutch): threatened LCR ESU;

• Steelhead (Oncorhynchus mykiss): threatened LCR distinct population segment (DPS); threatened UWR DPS.

ESA-Listed Species Covered by USFWS

• Bull trout (Salvelinus confluentus);

• Gray wolf (Canis lupus); and

• Northern spotted owl (Strix occidentalis caurina).

Non-ESA-Listed Species Covered by USFWS

• Pacific lamprey (Lampetra tridentata);

• Cascades frog (Rana cascadae);

• Coastal tailed frog (Ascaphus truei);

• Cascade torrent salamander (Rhyacotriton cascadae);

• Oregon slender salamander (Batrachoseps wright);

• Western/North Pacific pond turtle (Actinemys marmorata marmorata);

• Northern goshawk (Accipiter gentilis);

• Pacific Fisher (Pekania pennanti);

• Townsend's big-eared bat (Corynorhinus townsendii spp.);

• Hoary bat (Lasiurus cinereus);

• Silver-haired bat (Lasionycteris noctivagans);

• Fringed myotis bat (Myotis thysanodes);

• Long-eared myotis bat (Myotis evotis);

• Long-legged myotis bat (Myotis volans).

Background

Section 10(a)(1)(B) of the ESA, as amended (16 U.S.C. 1531 et seq.), authorizes NMFS and USFWS to issue ITPs to non-Federal parties for potential incidental take of endangered or threatened species as a result of covered activities. In support of its applications for such ITPs, Port Blakely prepared an HCP that provides an assessment of impacts of its timber harvest, silviculture, and road management activities in the Clackamas River and Molalla River basins of Oregon on the identified species; measures to monitor, minimize and mitigate for those impacts on those species; and procedures to account for unforeseen or extraordinary circumstances. NMFS received the ITP application and draft HCP on February 10, 2022.

On June 14, 2022, NMFS published a Notice of Receipt and Notice of Availability in the Federal Register (87 FR 35970) asking for public comments on the draft HCP and the associated draft NEPA EA. NMFS received two comments and these comments were addressed as changes to the final EA. The requested permit has been issued under the authority of the ESA on September 8, 2023. This ITP authorizes the incidental take of ESA-listed species set forth in the HCP over the 50-year permit term.

Authority

Section 9 of the ESA and Federal regulations prohibit the taking of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA provides for authorizing incidental take of listed species. NMFS regulations governing permits for threatened and endangered species are promulgated at 50 CFR 222.307

Dated: September 5, 2023.
Angela Somma,
Chief, Endangered Species Division, Office of Protected Resources, National Marine Fisheries Service.

[FR Doc. 2023-19437 Filed 9-11-23; 8:45 am]

BILLING CODE 3510-22-P